DEPARTMENT OF THE INTERIOR

Bureau of Ocean Energy Management

[Docket No. BOEM-2024-0015]

Notice of Availability of the Area Identification for the Proposed Gulf of Mexico Oil and Gas Lease Sales for Years 2024-2029

AGENCY: Bureau of Ocean Energy Management, Interior.

ACTION: Availability of area identification.

SUMMARY: The Bureau of Ocean Energy Management (BOEM) announces the availability of the Area Identification (Area ID) for the proposed Gulf of Mexico (GOM) oil and gas Lease Sales 262, 263, and 264.

ADDRESSES: The Area ID is available for viewing and downloading on BOEM's website at https://www.boem.gov/oil-gas-energy/national-program/2024-2029-gom-area-identification. It also may be obtained from the Bureau of Ocean Energy Management, New Orleans Office, 1201 Elmwood Park Blvd., New Orleans, LA 70123; telephone (800) 200-4853.

FOR FURTHER INFORMATION CONTACT: Bernadette Thomas, Supervisor of Leasing and Plans, GOM Regional Office, (504) 736-2596, bernadette.thomas@boem.gov or Ben Burnett, Chief, Leasing Policy and Management Division, (703) 787-1782, benjamin.burnett@boem.gov.

SUPPLEMENTARY INFORMATION: On December 14, 2023, the Secretary of the Interior approved the 2024-2029 National Outer Continental Shelf Oil and Gas Leasing Program (National OCS Program). The first proposed sale under that program, Lease Sale 262, is tentatively scheduled for 2025. Details of the 2024-2029 National OCS Program can be found at https://www.boem.gov/oil-gas-energy/national-program/national-ocs-oil-and-gas-leasing-program.

In accordance with 30 CFR 556.301, BOEM published a Call for Information and Nominations (Call) ¹ on the area identified in the 2024-2029 National OCS Program for the proposed lease sales. The Call solicited industry nominations for areas of leasing interest and sought comments and information from the public on the areas being considered. BOEM considered the comments received in response to the Call and identified the areas that warranted further consideration and analyses of the potential effects of leasing on the human, marine, and coastal environments. The result is this Area ID.

¹ 88 FR 67801 (October 2, 2023).

This Area ID is not a decision to lease and is not a prejudgment by the Department of the Interior on how or whether to proceed with proposed Lease Sales 262, 263, and 264. A decision to lease must be preceded by several preleasing steps, including, but not limited to, completion of environmental analyses pursuant to the National Environmental Policy Act; consultation under environmental and other statutes; opportunities for federally recognized Tribes, Governors of affected States, local government leaders, and other interested parties to provide comment; and the issuance of Proposed and Final Notices of Sale.

Authority: Outer Continental Shelf Lands Act, as amended (43 U.S.C. 1331-1356), and 30 CFR 556.302.

Walter D. Cruickshank,
Acting Director, Bureau of Ocean Energy Management.

[FR Doc. 2024-06784 Filed 3-29-24; 8:45 am]

BILLING CODE 4340-98-P